CONSUMER PRODUCT SAFETY COMMISSION

Sunshine Act Meeting

TIME AND DATE: Wednesday, September 20, 2023-10:00 a.m.

PLACE: The meeting will be held remotely, and in person at 4330 East-West Highway, Bethesda, Maryland, 20814.

STATUS: Commission Meeting—Open to the Public.

MATTERS TO BE CONSIDERED:

Briefing Matter:

Notice of Proposed Rulemaking—Safety Standard for Infant Rockers and Infant/Toddler Rockers

To attend the meeting virtually, please use the following link: https://cpsc.webex.com/weblink/register/r40908b005fac735e48a3993d91242503.

CONTACT PERSON FOR MORE INFORMATION: Alberta E. Mills, Office of the Secretary, U.S. Consumer Product Safety Commission, 4330 East West Highway, Bethesda, MD 20814, 301-504-7479 (Office) or 240-863-8938 (Cell).

Dated: September 13, 2023.
Alberta E. Mills,
Commission Secretary.

[FR Doc. 2023-20182 Filed 9-14-23; 11:15 am]

BILLING CODE 6355-01-P